DEPARTMENT OF THE INTERIOR

Fish and Wildlife Service

Conference of the Parties to the Convention on International Trade in Endangered Species of Wild Fauna and Flora (CITES); Twelfth Regular Meeting; Announcement of Public Meeting

AGENCY: Fish and Wildlife Service, Interior.

ACTION: Notice.

SUMMARY: The United States, as a Party to the Convention on International Trade in Endangered Species of Wild Fauna and Flora (CITES), will attend the twelfth regular meeting of the Conference of the Parties to CITES (COP12) in Santiago, Chile, November 3-15, 2002. Currently, the United States is developing its negotiating positions on proposed resolutions, proposed decisions, agenda items, and proposed amendments to the CITES Appendices submitted by other countries and the CITES Secretariat for consideration at COP12. With this notice we announce a public meeting to discuss the tentative U.S. negotiating positions on these proposals and agenda items.

DATES: The public meeting will be held on September 10, 2002, at 1:30 p.m. In developing the U.S. negotiating positions on proposed resolutions, proposed decisions, agenda items, and species amendment proposals submitted by other countries and the CITES Secretariat for consideration at COP12, we will consider written information and comments you submit if we receive them by October 4, 2002.

ADDRESSES:

Public Meeting

The public meeting will be held in Sidney Yates Auditorium, in the Department of the Interior at 18th and C Streets, NW., Washington, DC. Directions to the building can be obtained by contacting the Division of Management Authority (see FOR FURTHER INFORMATION CONTACT, below).

Available Information

Information concerning the tentative U.S. negotiating positions for COP12 is available upon request from the Division of Management Authority; U.S. Fish and Wildlife Service; 4401 North Fairfax Drive; Room 700; Arlington, VA 22203. Effective on or about September 3, 2002, this information will also be available from our World Wide Website (http://international.fws.gov/cop12/cop12.html) and via our Faxback system. You may obtain the information via the Faxback system by dialing 703/358-2400, our Faxback telephone number, following the automated instructions, and entering Document Number 5054 when prompted to enter a document number.

Comment Submission

Comments pertaining to proposed resolutions, proposed decisions, and/or agenda items should be sent to the Division of Management Authority; U.S. Fish and Wildlife Service; 4401 North Fairfax Drive; Room 700; Arlington, VA 22203, or via E-mail at: cites@fws.gov, or via fax at: 703/358-2298. Comments pertaining to species amendment proposals should be sent to the Division of Scientific Authority; U.S. Fish and Wildlife Service; 4401 North Fairfax Drive; Room 750; Arlington, VA 22203, or via E-mail at: scientificauthority@fws.gov, or via fax at: 703/358-2276. Comments and materials received will be available for public inspection, by appointment, from 8 a.m. to 4 p.m., Monday through Friday, at either the Division of Management Authority or the Division of Scientific Authority.

FOR FURTHER INFORMATION CONTACT: Andrea Gaski, Division of Management Authority, Branch of CITES Operations, phone: 703/358-2095, fax: 703/358-2298, E-mail: cites@fws.gov; or Robert R. Gabel, Division of Scientific Authority, phone: 703/358-1708, fax: 703/358-2276, E-mail: scientificauthority@fws.gov.

SUPPLEMENTARY INFORMATION:

Background

The Convention on International Trade in Endangered Species of Wild Fauna and Flora, hereinafter referred to as CITES or the Convention, is an international treaty designed to control and regulate international trade in certain animal and plant species that are now or potentially may be threatened with extinction if their trade is not controlled. These species are listed in Appendices to CITES, copies of which are available from the Division of Management Authority or the Division of Scientific Authority at the above addresses, from our World Wide Website at http://international.fws.gov/cites/cites.html, or from the official CITES Secretariat Website at http://www.cites.org/eng/append/index.shtml. Currently, 158 countries, including the United States, are Parties to CITES. CITES calls for biennial meetings of the Conference of the Parties, which review its implementation, make provisions enabling the CITES Secretariat in Switzerland to carry out its functions, consider amendments to the list of species in Appendices I and II, consider reports presented by the Secretariat, and make recommendations for the improved effectiveness of CITES. Any country that is a Party to CITES may propose and vote on amendments to Appendices I and II, resolutions, decisions, and agenda items for consideration by the Conference of the Parties.

This is our fifth in a series of Federal Register notices that provide you with an opportunity to participate in the development of the United States' negotiating positions for COP12. We published our first such Federal Register notice on June 12, 2001 (66 FR 31686), and with it we requested information and recommendations on potential species amendments for the United States to consider proposing at COP12. Information on that Federal Register notice, and on species amendment proposals, is available from the Division of Scientific Authority at the above address. We published our second such Federal Register notice on July 25, 2001 (66 FR 38739), and with it we requested information and recommendations on potential resolutions, decisions, and agenda items for the United States to submit for consideration at COP12. You may obtain information on that Federal Register notice, and on proposed resolutions, proposed decisions, and agenda items, from the Division of Management Authority at the above address. We published our third such Federal Register notice on March 27, 2002 (67 FR 14728), and with it we announced a public meeting to discuss potential species amendment proposals, proposed resolutions, proposed decisions, and agenda items that the United States is considering submitting for consideration at COP12. With that notice, we also provided information on how non-governmental organizations based in the United States can attend COP12 as observers. You may obtain information on that Federal Register notice from the Division of Management Authority at the above address. We published our fourth such Federal Register notice on April 18, 2002 (67 FR 19207), and with it we listed potential proposed resolutions, proposed decisions, agenda items, and proposed amendments to the CITES Appendices that the United States was considering submitting for consideration at COP12, and invited your comments on these potential proposals. You may obtain information on that Federal Register notice from the Division of Management Authority (for information pertaining to proposed resolutions, proposed decisions, and agenda items) or the Division of Scientific Authority (for information pertaining to proposed amendments to the Appendices) at the above addresses. On June 6, 2002, the United States submitted to the CITES Secretariat, for consideration at COP12, its proposed resolutions, proposed decisions, agenda items, and proposed amendments to the CITES Appendices. These documents are available from our World Wide Website at: http://international.fws.gov/cop12/ussubmission.html. You may locate our regulations governing this public process in 50 CFR 23.31-23.39.

COP12 is scheduled to be held in Santiago, Chile, November 3-15, 2002.

Announcement of Public Meeting

We announce that we will hold a public meeting to discuss with you the tentative U.S. negotiating positions on proposed resolutions, proposed decisions, agenda items, and proposed amendments to the CITES Appendices submitted by other countries and the CITES Secretariat for consideration at COP12. The public meeting will be held on September 10, 2002, from 1:30 p.m. to 4:30 p.m. in Sidney Yates Auditorium of the Department of the Interior at 18th and C Streets, NW., Washington, DC. You can obtain directions to the building by contacting the Division of Management Authority (see FOR FURTHER INFORMATION CONTACT, above). Sidney Yates Auditorium is accessible to the handicapped. Persons planning to attend the meeting who require interpretation for the hearing impaired should notify the Division of Management Authority as soon as possible. All persons planning to attend the meeting will be required to present photo identification when entering the building.

Future Actions

We are planning to soon publish a Federal Register notice announcing the provisional agenda for COP12 and informing you about tentative U.S. negotiating positions on proposals to amend the Appendices, proposed resolutions, proposed decisions, and other agenda items before the Parties for consideration at COP12.

Author: The primary author of this notice is Mark Albert, Division of Management Authority; under the authority of the U.S. Endangered Species Act of 1973, as amended (16 U.S.C. 1531 et seq.).

Dated: July 24, 2002.
Marshall P. Jones, Jr.,
Acting Director.

[FR Doc. 02-21074 Filed 8-19-02; 8:45 am]

BILLING CODE 4310-55-P